DEPARTMENT OF COMMERCE

National Oceanic and Atmospheric Administration

Notice of Availability of the Draft Reserve Operations Plan for the Northwestern Hawaiian Islands Coral Reef Ecosystem Reserve for Public Comment

AGENCY: National Ocean Service (NOS), National Oceanic and Atmospheric Administration (NOAA), Department of Commerce (DOC).

ACTION: Notice; request for public comment.

SUMMARY: On December 4, 2000, and January 18, 2001, Executive Orders 13178 and 13196 (hereinafter Executive Order) were issued, establishing the Northwestern Hawaiian Islands Coral Reef Ecosystem Reserve (Reserve), pursuant to the National Marine Sanctuaries Amendments Act of 2000. The Reserve extends approximately 1200 nautical miles long and 100 nautical miles wide. Pursuant to the Executive Order, NOAA has prepared a draft Reserve Operations Plan, which provides a guide for management of the Reserve during a designation process that will consider the Northwestern Hawaiian Islands as a National Marine Sanctuary. This notice announces the availability of the draft Reserve Operations Plan for public review. After the close of the comment period, NOAA will consider the comments received and make necessary changes. A final Reserve Operations Plan is expected to be issued by Summer 2002.

DATES AND ADDRESSES: Comments on the draft Reserve Operations Plan must be received no later than May 17, 2002. Written comments may be sent to NWHI Coral Reef Ecosystem Reserve, 6700 Kalaniana'ole Highway, #215, Honolulu, Hawaii 96825; faxed to (808) 397-2662; or emailed to nwhi@noaa.gov. Comments will be available for public review at the office address above.

FOR FURTHER INFORMATION CONTACT: “Aulani Wilhelm, (808) 397-2657, nwhi@noaa.gov.

SUPPLEMENTARY INFORMATION: The Northwestern Hawaiian Islands Coral Reef Ecosystem Reserve (Reserve) was established by Executive Orders 13178 and 13196 (herein after Executive Order). Pursuant to the Executive Order, NOAA has prepared a draft Reserve Operations Plan, which provides a guide for management of the Reserve during a process that will consider the Northwestern Hawaiian Islands for designation as a National Marine Sanctuary. This notice announces the availability of the draft Reserve Operations Plan for public review.

The Executive Order directs that the draft Reserve Operations Plan “shall be directed at priority issues and actions.” The Executive Order also directs that the Reserve Operations Plan should address such issues as coordinated management among the agencies with relevant jurisdiction in the Northwestern Hawaiian Islands, clean up and prevention of marine debris, restoration of degraded or injured resources, research and education, enforcement and surveillance, identification and coordination with Native Hawaiian interests on cultural uses and locations, and designation of the Reserve as a National Marine Sanctuary.

In response to the Executive Order, NOS has prepared the draft Reserve Operations Plan, following templates used for the management plans of the National Marine Sanctuary Program. The document is composed of a set of function- and issue-oriented (as identified in the Executive Order) action plans, with supporting documentation. Each action plan focuses on strategies, and outlines what, who, why, when, and how different activities will be conducted. Following is a list of the action plans contained in the draft Reserve Operations Plan:

• Operations: includes interagency coordination, activity and area identification, Reserve/Sanctuary Advisory Council operations, development of fishing caps and permitting procedures, and infrastructure development;

• Education: encompasses all education, outreach, and interpretive projects;

• Cultural Resources: consists of all projects related to Native Hawaiian culture, uses, and locations;

• Research and Monitoring: contains all projects related to research and monitoring;

• Mapping: covers all projects related to developing charts and maps of the NWHI;

• Restoration: contains projects related to restoration;

• Emergency Response and Damage Assessment: covers projects related to contingency planning and response;

• Marine Debris: consists of projects related to the removal of marine debris from the NWHI;

• Enforcement: includes air and sea support for existing enforcement operations and expansion of a vessel monitoring system; and

• Designation: comprised of all projects related to the Sanctuary designation process.

The Reserve Operations Plan will provide a guide for management of the Reserve during a process that will consider the Northwestern Hawaiian Islands for designation as a National Marine Sanctuary. The designation process has been initiated (66 FR 5509). Information about the scoping process and its opportunities for public comment will be provided in a separate notice to the Federal Register.

Authority: Pub.L. 106-513; Executive Order 13178; and Executive Order 13196.

Dated: March 12, 2002.
Jamison S. Hawkins,
Deputy Assistant Administrator for Ocean Services and Coastal Zone Management.

[FR Doc. 02-6471 Filed 3-15-02; 8:45 am]

BILLING CODE 3510-08-U